RAILROAD RETIREMENT BOARD

Sunshine Act; Notice of Public Meeting

Notice is hereby given that the Railroad Retirement Board will hold a meeting on July 19, 2017, 1:30 p.m. at the Board's meeting room on the 8th floor of its headquarters building, 844 North Rush Street, Chicago, Illinois 60611. The agenda for this meeting follows:

Portion open to the public:

(1) Executive Committee Reports

The person to contact for more information is Martha P. Rico, Secretary to the Board, Phone No. 312-751-4920.

Dated: June 27, 2017.
Martha P. Rico,
For the Board, Secretary to the Board.

[FR Doc. 2017-13764 Filed 6-27-17; 11:15 am]

BILLING CODE 7905-01-P